MILLENNIUM CHALLENGE CORPORATION

[MCC FR 06-02]

Notice of the Millennium Challenge Corporation Environmental Guidelines

AGENCY: Millennium Challenge Corporation.

ACTION: Notice.

SUMMARY: On January 17, 2006, the Board of Directors of the Millennium Challenge Corporation (the “Corporation”) approved the Corporation's Environmental Guidelines (“Environmental Guidelines”) and authorized the Corporation to apply them for the purpose of ensuring that projects funded under Millennium Challenge Compacts are environmentally sound, are designed to operate in compliance with relevant regulatory requirements, and, as required by section 605(e)(3) of the Millennium Challenge Act of 2003, are not likely to cause a significant environmental, health or safety hazard.

The full text of the Environmental Guidelines can be found on the Corporation's Web site at http://www.mcc.gov/public_affairs/press_releases/pr_012406_env_guidelines.shtml.

FOR FURTHER INFORMATION CONTACT: Information regarding the Environmental Guidelines may be obtained from: Environment and Social Assessment Team, Millennium Challenge Corporation, 875 15th Street, NW., Washington, DC 20005-2203, Telephone: 202-521-3600, E-mail: esa@mcc.gov.

Dated: February 2, 2006.
Jon A. Dyck,
Vice President and General Counsel, Millennium Challenge Corporation.

[FR Doc. 06-1142 Filed 2-7-06; 8:45 am]

BILLING CODE 9210-01-P